DEPARTMENT OF ENERGY

Plains & Eastern Clean Line Transmission Project Draft Environmental Impact Statement Notice of Availability and Public Hearings; Correction

AGENCY: Office of Electricity Delivery and Energy Reliability, Department of Energy.

ACTION: Correction.

SUMMARY: On December 17, 2014, the U.S. Department of Energy (DOE) published a notice of availability in the Federal Register of the Draft Environmental Impact Statement for the Plains & Eastern Clean Line Transmission Project (DOE/EIS-0486; Draft EIS). This notice corrects the date of the public comment period.

FOR FURTHER INFORMATION CONTACT: Jane Summerson, Ph.D., DOE NEPA Document Manager on behalf of the Office of Electricity Delivery and Energy Reliability, U.S. Department of Energy, NNSA, PO Box 391 Building 401, Kirtland Air Force Base East, Albuquerque, NM 87185; email at Jane.Summerson01@nnsa.doe.gov; or phone (505) 845-4091.

Correction

In the Federal Register dated December 17, 2014 in FR Doc. 2014-29524, please make the following corrections on page 75132:

The end of the first sentence in the DATES section, is corrected by removing “which ends on March 17, 2015” and adding “which begins on December 19, 2014, and ends on March 19, 2015” in its place.

Issued in Washington, DC on December 19, 2014.
Patricia A. Hoffman,
Assistant Secretary Office of Electricity Delivery and Energy Reliability.

[FR Doc. 2014-30393 Filed 12-24-14; 8:45 am]

BILLING CODE 6450-01-P